DEPARTMENT OF TRANSPORTATION

Maritime Administration

[Docket No. MARAD-2019-0011]

Deepwater Port License Application: SPOT Terminal Services LLC; Correction and Comment Period Extension

AGENCY: Maritime Administration, Department of Transportation.

ACTION: Notice of Correction and Extension of the Public Comment Period.

SUMMARY: By Federal Register notice of Friday, February 7, 2020, titled Deepwater Port License Application: SPOT Terminal Services LLC, the U.S. Coast Guard (USCG), in coordination with the Maritime Administration (MARAD), announced the availability of the Draft Environmental Impact Statement (DEIS) for the SPOT Terminal Services LLC (SPOT) deepwater port license application for the export of oil from the United States to nations abroad. Publication of that notice began a 45-day public comment period, which began on February 7, 2020 and ended on March 23, 2020. On April 28, 2020, the same notice was inadvertently published in the Federal Register. Additionally, both notices announced the date and location of an informational open house and public meeting that was held in Lake Jackson, Texas, on February 26, 2020, from 6:00 p.m. to 8:00 p.m., and was preceded by an open house from 4:00 p.m. to 6:00 p.m. However, nationwide impacts of the public health emergency under section 319 of the Public Health Services Act in response to Coronavirus Disease 2019 (COVID-19), the President's declaration of a national emergency due to the COVID-19 outbreak, and state and local actions in response to COVID-19, have impacted the public's ability to assemble and provide feedback on the SPOT deepwater port license application DEIS. Therefore, this notice supplants the April 28, 2020 notice and extends the public comment period for the SPOT DEIS 30-days from the publication date of this Federal Register notice.

DATES: Comments or related material on the SPOT deepwater port license application must be received 30 days from the date of this notice.

ADDRESSES: The public docket for the SPOT deepwater port license application is maintained by the U.S. Department of Transportation, Docket Management Facility, West Building, Ground Floor, Room W12-140, 1200 New Jersey Avenue SE, Washington, DC 20590. The license application is available for viewing at the Regulations.gov website: http://www.regulations.gov under docket number MARAD-2019-0011.

We encourage you to submit comments electronically through the Federal eRulemaking Portal at http://www.regulations.gov. If you submit your comments electronically, it is not necessary to also submit a hard copy. If you cannot submit material using http://www.regulations.gov, please contact either Mr. William Nabach, USCG or Yvette Fields, MARAD, as listed in the following FOR FURTHER INFORMATION CONTACT section of this document, which also provides alternate instructions for submitting written comments. Additionally, if you go to the online docket and sign up for email alerts, you will be notified when comments are posted. Anonymous comments will be accepted. All comments received will be posted without change to http://www.regulations.gov and will include any personal information you have provided. The Federal Docket Management Facility's telephone number is 202-366-9317 or 202-366-9826, the fax number is 202-493-2251.

FOR FURTHER INFORMATION CONTACT: Mr. William Nabach, Project Manager, USCG, telephone: 202-372-1437, email: William.A.Nabach2@uscg.mil; or Ms. Yvette Fields, Director, Office of Deepwater Port Licensing and Port Conveyance, MARAD, telephone: 202-366-0926, email: Yvette.Fields@dot.gov.

SUPPLEMENTARY INFORMATION:

Request for Comments

We request public comment on this proposal. The comments may relate to, but are not limited to, the environmental impact of the proposed action. All comments will be accepted. You may submit comments directly to the Federal Docket Management Facility during the public comment period (see Dates). We will consider all comments and material received during the extended scoping period.

The license application, comments and associated documentation, as well as the draft and final EISs (when published), are available for viewing at the Federal Docket Management System (FDMS) website: http://www.regulations.gov under docket number MARAD-2019-0011.

Public comment submissions should include:

• Docket number MARAD-2019-0011.

• Your name and address.

Submit comments or material using only one of the following methods:

• Electronically (preferred for processing) to the Federal Docket Management System (FDMS) website: http://www.regulations.gov under docket number MARAD-2019-0011.

• By mail to the Federal Docket Management Facility (MARAD-2019-0011, U.S. Department of Transportation, West Building, Ground Floor, Room W12-140, 1200 New Jersey Avenue SE, Washington, DC 20590-0001.

• Personal deliveries are currently not being accepted due to the COVID-19 public health emergency.

• By fax to the Federal Docket Management Facility at 202-493-2251.

Faxed or mail submissions must be unbound, no larger than 8½ by 11 inches and suitable for copying and electronic scanning. The format of electronic submissions should also be no larger than 8½ by 11 inches. If you mail your submission and want to know when it reaches the Federal Docket Management Facility, please include a stamped, self-addressed postcard or envelope.

Regardless of the method used for submitting comments, all submissions will be posted, without change, to the FDMS website (http://www.regulations.gov) and will include any personal information you provide. Therefore, submitting this information to the docket makes it public. You may wish to read the Privacy and Use Notice that is available on the FDMS website and the Department of Transportation Privacy Act Notice that appeared in the Federal Register on April 11, 2000 (65 FR 19477), see Privacy Act. You may view docket submissions at the Federal Docket Management Facility or electronically on the FDMS website.

Privacy Act

The electronic form of all comments received into the FDMS can be searched by the name of the individual submitting the comment (or signing the comment, if submitted on behalf of an association, business, labor union, etc.). The Department of Transportation Privacy Act Statement can be viewed in the Federal Register published on April 11, 2000 (Volume 65, Number 70, pages 19477-78) or by visiting http://www.regulations.gov.

(Authority: 33 U.S.C. 1501, et seq., 49 CFR 1.93(h)).

Dated: April 28, 2020.
By Order of the Maritime Administrator.
T. Mitchell Hudson, Jr.,
Secretary, Maritime Administration.

[FR Doc. 2020-09302 Filed 4-30-20; 8:45 am]

BILLING CODE 4910-81-P